DEPARTMENT OF THE TREASURY

Office of Foreign Assets Control

Additional Designation of Entities Pursuant to Executive Order 12978

AGENCY: Office of Foreign Assets Control, Treasury.

ACTION: Notice.

SUMMARY: The Treasury Department's Office of Foreign Assets Control (“OFAC”) is publishing the names of 25 newly-designated individuals and entities whose property and interests in property are blocked pursuant to Executive Order 12978 of October 21, 1995, “Blocking Assets and Prohibiting Transactions with Significant Narcotics Traffickers.”

DATES: The designation by the Acting Director of OFAC of the 25 individuals and entities identified in this notice pursuant to Executive Order 12978 is effective on July 9, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on demand service, tel.: (202) 622-0077.

Background

On October 21, 1995, the President, invoking the authority, inter alia, of the International Emergency Economic Powers Act (50 U.S.C. 1701-1706), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On July 9, 2009, the Director of OFAC, in consultation with the Attorney General and Secretary of State, as well as the Secretary of Homeland Security, designated 25 individuals and entities whose property and interests in property are blocked pursuant to the Order.

The list of additional designees is as follows:

1. FLOREZ UPEGUI, Francisco Antonio (a.k.a. “Don Pacho”); c/o FLOREZ HERMANOS LTDA., Medellin, Colombia; c/o CANALES VENECIA LTDA., Envigado, Antioquia, Colombia; Calle 4 Sur No. 43B-60, Medellin, Colombia; DOB 10 May 1950; Citizen Colombia; Nationality Colombia; Cedula No. 8308988 (Colombia); Passport AG708213 (Colombia); (INDIVIDUAL) [SDNT].

2. FLOREZ UPEGUI, Elkin de Jesus, c/o FLOREZ HERMANOS LTDA., Medellin, Colombia; c/o INVERSIONES FLOREZ Y FLOREZ Y CIA S.C.A., Medellin, Colombia; Citizen Colombia; Nationality Colombia; Cedula No. 70660660 (Colombia); (INDIVIDUAL) [SDNT].

3. FLOREZ UPEGUI, Carlos Jairo, c/o FLOREZ HERMANOS LTDA., Medellin, Colombia; Citizen Colombia; Nationality Colombia; Cedula No. 70660584 (Colombia); (INDIVIDUAL) [SDNT].

4. VELASQUEZ RODRIGUEZ, Ruth Cecilia, c/o CANALES VENECIA LTDA., Envigado, Antioquia, Colombia; c/o FLOREZ HERMANOS LTDA., Medellin, Colombia; c/o INVERSIONES FLOREZ Y FLOREZ Y CIA S.C.A., Medellin, Colombia; Citizen Colombia; Nationality Colombia; Cedula No. 32335973 (Colombia); (INDIVIDUAL) [SDNT].

5. VELEZ TRUJILLO, Jairo de Jesus, c/o CANALES VENECIA LTDA., Envigado, Antioquia, Colombia; Citizen Colombia; Nationality Colombia; Cedula No. 70410564 (Colombia); (INDIVIDUAL) [SDNT].

6. ACOSTA SERNA, Oscar Alonso, Colombia; DOB 15 Aug 1971; POB Argelia, Colombia; Citizen Colombia; Nationality Colombia; Cedula No. 10141319 (Colombia); Passport AK253066 (Colombia); (INDIVIDUAL) [SDNT].

7. ACOSTA SERNA, Robinson Duvan, Mz 1 cs 12 B. Santiago Londono, Colombia; DOB 26 Apr 1977; POB Colombia; Citizen Colombia; Nationality Colombia; Cedula No. 10002061 (Colombia); Passport AJ418881 (Colombia); (INDIVIDUAL) [SDNT].

8. HARB, Chekri Mahmoud (a.k.a. “Shekry Harb”); c/o VARIEDADES HARB SPORT, Medellin, Colombia; c/o COMERCIAL JINAN S.A., Guatemala, Guatemala; c/o ALMACEN FUTURO NO. 1, Medellin, Colombia; Carerra 50 A, No 76-s-169, Torre 3, Apto. 319, Medellin, Colombia; DOB 25 Aug 1961; POB Lebanon; Citizen Colombia; Nationality Lebanon; Cedula No. 256820 (Colombia); (INDIVIDUAL) [SDNT].

9. RINCON ORDONEZ, Jorge Enrique, Transversal 24 No. 87-15, Apto. 7000, Bogota, Colombia; DOB 09 Dec 1957; POB Armenia; Citizen Colombia; Nationality Colombia; Cedula No. 7526915 (Colombia); Passport AJ842281 (Colombia); (INDIVIDUAL) [SDNT].

10. VARELA BUSTOS, Fernando, B. Centro Not El Dovio Valle DRM, Colombia; DOB 02 Feb 1959; Citizen Colombia; Nationality Colombia; Cedula No. 0071622765 (Colombia); (INDIVIDUAL) [SDNT].

11. DOUGHERTY MONROY, Jose Rodrigo, 5ta Calle 3-56, Zona 14, Colonia El Campo, Guatemala City, Guatemala; DOB 08 May 1971; POB Guatemala; Passport 008130004 (Guatemala); (INDIVIDUAL) [SDNT].

12. GONZALEZ HOYOS, Carlos Enrique, Colombia; DOB 13 Jul 1968; Citizen Colombia; Nationality Colombia; Cedula No. 0018594926 (Colombia); (INDIVIDUAL) [SDNT].

13. CANAS PULIDO, Ramon Alberto, Cra 29 #9 B 64, Cali, Colombia; DOB 02 Aug 1981; Citizen Colombia; Nationality Colombia; Cedula No. 16930747 (Colombia); Passport AK139726 (Colombia); (INDIVIDUAL) [SDNT].

14. MADRID FRANCO, Cecilia, Calle 3 sur No. 53-90, Medellin, Colombia; DOB 31 Mar 1962; Citizen Colombia; Nationality Colombia; Cedula No. 31885071 (Colombia); Passport AJ525603 (Colombia); (INDIVIDUAL) [SDNT].

15. DIB EL MALT, Abdul Naser, Calle 85 No. 12-10, Oficina 213 y/o Local 3, Colombia; DOB 20 Aug 1967; Citizen Colombia; Nationality Lebanon; Passport 0218186 (Lebanon); Cedula No. 276392 (Colombia); (INDIVIDUAL) [SDNT].

16. ALVARADO, Imad Abdul Rahim, Lebanon; DOB 26 Jan 1970; Citizen Colombia; Nationality Colombia; Cedula No. 0005629133 (Colombia); (INDIVIDUAL) [SDNT].

17. ABDUL RAHIM, Ali Mohamad, Trsv 44, No. 45a-19, Colombia; DOB 16 Sep 1968; Citizen Colombia; Nationality Lebanon; Cedula No. 310221 (Colombia); Passport 1505015 (Lebanon); (INDIVIDUAL) [SDNT].

18. HENAO JARAMILLO, Mario Alberto, Colombia; DOB 04 Sep 1966; Cedula No. 98519014 (Colombia); (INDIVIDUAL) [SDNT].

19. KADDOURA, Ali Ahmad, Colombia; DOB 11 Jul 1964; Nationality Lebanon; Cedula No. 199740 (Colombia); (INDIVIDUAL) [SDNT].

20. FLOREZ HERMANOS LTDA. (a.k.a. HOSTERIA LAS DOS PALMAS); Carrera 65 No. 34-35, Medellin, Colombia; NIT # 8000902368 (Colombia); (ENTITY) [SDNT].

21, INVERSIONES FLOREZ Y FLOREZ Y CIA S.C.A. (a.k.a. FLOREZ Y FLOREZ Y CIA S.C.A.); Carrera 65 No. 34-35, Medellin, Colombia; NIT # 811036947-7 (Colombia); (ENTITY) [SDNT].

22. CANALES VENECIA LTDA. (a.k.a. CANALVE LTDA.); Carrera 42 No. 40CSur-18, Envigado, Antioquia, Colombia; NIT # 8110469899 (Colombia); (ENTITY) [SDNT].

23. ALMACEN FUTURO NO. 1, Carrera 50A No. 83-165, Oficina 402, Medellin, Colombia; NIT # 6070026706 (Colombia); (ENTITY) [SDNT].

24. VARIEDADES HARB SPORT, Cra. 50A # 83-165, Ofc. 402, Medellin, Colombia; NIT # 6070026706 (Colombia); (ENTITY) [SDNT].

25. COMERCIAL JINAN S.A., 20 Calle No. 16-36, Proyecto 4-4, Zona 6, Guatemala, Guatemala; NIT # 4151952-3 (Guatemala); (ENTITY) [SDNT].

Dated: July 9, 2009.
Adam J. Szubin,
Director, Office of Foreign Assets Control.

[FR Doc. E9-16784 Filed 7-14-09; 8:45 am]

BILLING CODE 4811-45-P